DEPARTMENT OF COMMERCE

Foreign-Trade Zones Board

[Order No. 1677]

Designation of New Grantee

Foreign-Trade Zone 185, Culpeper, Virginia

Resolution and Order

Pursuant to its authority under the Foreign-Trade Zones Act of June 18, 1934, as amended (19 U.S.C. 81a-81u), the Foreign-Trade Zones Board (the Board) adopts the following Order:

The Foreign-Trade Zones Board (FTZ) Board (the Board) has considered the application (filed 12/01/09) submitted by the Culpeper County Chamber of Commerce, grantee of FTZ 185, requesting reissuance of the grant of authority for said zone to the County of Culpeper, a public corporation, which has accepted such reissuance subject to approval by the FTZ Board. Upon review, the Board finds that the requirements of the FTZ Act and the Board's regulations are satisfied, and that the proposal is in the public interest.

Therefore, the Board approves the application and recognizes the County of Culpeper as the new grantee of Foreign-Trade Zone 185, subject to the FTZ Act and the Board's regulations, including Section 400.28. The Secretary of Commerce, as Chairman of the Board, is hereby authorized to issue an appropriate Board Order.

Signed at Washington, DC, this 20th day of April 2010.

Ronald K. Lorentzen,
Deputy Assistant Secretary of Commerce for Import Administration Alternate Chairman Foreign-Trade Zones Board.
ATTEST:
Andrew McGilvray,
Executive Secretary.

[FR Doc. 2010-10617 Filed 5-4-10; 8:45 am]

BILLING CODE 3510-DS-S